ENVIRONMENTAL PROTECTION AGENCY

[EPA-HQ-OPP-2009-0879; FRL-8885-9]

Exposure Modeling Public Meeting; Notice of Public Meeting

AGENCY: Environmental Protection Agency (EPA).

ACTION: Notice.

SUMMARY: An Exposure Modeling Public Meeting (EMPM) will be held for one day on September 20, 2011. This notice announces the location and time for the meeting and sets forth the tentative agenda topics.

DATES: The meeting will be held on September 20, 2011 from 9 a.m. to 4:30 p.m. Requests to participate in the meeting must be received on or before September 6, 2011. To request accommodation of a disability, please contact the person listed under FOR FURTHER INFORMATON CONTACT, preferably at least 10 days prior to the meeting, to give EPA as much time as possible to process your request.

ADDRESSES: The meeting will be held at the Environmental Protection Agency, Office of Pesticide Programs (OPP), One Potomac Yard (South Building), Fourth Floor Conference Center (S-4370-80), 2777 S. Crystal Drive, Arlington, VA 22202.

FOR FURTHER INFORMATION CONTACT: Andrew Shelby, Environmental Fate and Effects Division (7507P), Office of Pesticide Programs, Environmental Protection Agency, 1200 Pennsylvania Ave., NW., Washington, DC 20460-0001; telephone number: (703) 347-0119; fax number: (703) 305-6309; e-mail address: shelby.andrew@epa.gov.

SUPPLEMENTARY INFORMATION:

I. General Information

A. Does this action apply to me?

You may be potentially affected by this action if you are required to conduct testing of chemical substances under the Toxic Substances Control Act (TSCA), the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How can I get copies of this document and other related information?

EPA has established a docket for this action under docket ID number EPA-HQ-OPP-2009-0879. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

On a biannual interval, an Exposure Modeling Public Meeting will be held for presentation and discussion of current issues related to modeling pesticide fate, transport, and exposure in risk assessment in a regulatory context. Meeting dates and abstract requests are announced through the “empmlist” forum on the LYRIS list server at https://lists.epa.gov/read/all_forums/.

III. How can I request to participate in this meeting?

You may submit a request to participate in this meeting to the person listed under FOR FURTHER INFORMATION CONTACT. Do not submit any information in your request that is considered CBI. Requests to participate in the meeting, identified by docket ID number EPA-HQ-OPP-2009-0879, must be received on or before September 6, 2011.

IV. Tentative Topics for the Meeting

Tentative topics for the meeting will include presentations related to aquatic exposure modeling and monitoring. Specifically, presentations will include the following:

1. Use-Exposure Relationships of Pesticides for Aquatic Risk Assessment.

2. Refinements to the USEPA Tier II Drinking Water Risk Assessment Guidance: Addressing Atypical Use Patterns.

3. Generalized Haber's Law for Exponential Concentration Decline with Application to Riparian-Aquatic Pesticide Ecotoxicity.

4. Pesticide Aquatic Exposure Scenarios and Modeling for Juvenile Pacific Salmonid Flood Plain Habitat.

5. Regional Analysis of the Environmental Risk with the GIS-Base Pesticide Risk Indicator SYNOPS.

6. Herbicide Volatilization Trumps Runoff Losses: A Multiyear Investigation.

7. Implementation of Drift Fractions Generated by Spray Drift Models for Exposure and Risk Assessments.

8. Percent Crop Area (PCA) Project Update.

9. Tier II Groundwater Model (PRZM-GW) Project Update.

10. Spatial Aquatic Model (SAM) Project Update.

11. Atrazine Scientific Advisory Panel (SAP) Meeting Summary.

List of Subjects

Environmental protection, Modeling, Monitoring, Spray drift, Ground water, Aquatic risk assessment, Salmonid, Atrazine, Spatial aquatic model, Pesticides.

Dated: August 22, 2011.
Arthur-Jean Williams,
Acting Director, Environmental Fate and Effects Division, Office of Pesticide Programs.

[FR Doc. 2011-21954 Filed 8-25-11; 8:45 am]

BILLING CODE 6560-50-P